OFFICE OF THE UNITED STATES TRADE REPRESENTATIVE

Request for Comments Concerning Compliance With Telecommunications Trade Agreements

AGENCY: Office of the United States Trade Representative.

ACTION: Notice of request for public comment and reply comment.

SUMMARY: Pursuant to section 1377 of the Omnibus Trade and Competitiveness Act of 1988 (19 U.S.C. 3106) (“section 1377”), the Office of the United States Trade Representative (“USTR”) is reviewing, and requests comments on: the operation and effectiveness of and the implementation of and compliance with the World Trade Organization (“WTO”) Basic Telecommunications Agreement; other WTO agreements affecting market opportunities for telecommunications products and services of the United States; the telecommunications provisions of the North American Free Trade Agreement (“NAFTA”); Chile and Singapore Free Trade Agreements; and, other telecommunications trade agreements. The USTR will conclude the review on March 31, 2004.

DATES: Comments are due by noon on January 5, 2004 and reply comments are due by noon on January 23, 2004.

ADDRESSES: Comments must be submitted to Gloria Blue, Executive Secretary, Trade Policy Staff Committee, ATTN: Section 1377 Comments, Office of the United States Trade Representative, 600 17th Street, NW, Washington, DC 20508.

FOR FURTHER INFORMATION CONTACT: Kenneth Schagrin, Office of Industry and Telecommunications (202) 395-5663; or Jim Kelleher, Office of the General Counsel (202) 395-3858.

SUPPLEMENTARY INFORMATION: Section 1377 requires the USTR to review annually the operation and effectiveness of all U.S. trade agreements regarding telecommunications products and services of the United States that are in force with respect to the United States. The purpose of the review is to determine whether any act, policy, or practice of a country that has entered into a telecommunications trade agreement with the United States is inconsistent with the terms of such agreement, or otherwise denies to U.S. firms, within the context of the terms of such agreements, mutually advantageous market opportunities. For the current review, the USTR seeks comments on:

(1) Whether any WTO member is acting in a manner that is inconsistent with its commitments under the WTO Basic Telecommunications Agreement or with other WTO obligations, e.g., the WTO General Agreement on Trade in Services (“GATS”), including the Annex on Telecommunications and the Reference Paper on Pro-Competitive Regulatory Principles, that affect market opportunities for U.S. telecommunications products and services;

(2) Whether Canada or Mexico has failed to comply with their telecommunications commitments or obligations under NAFTA;

(3) Whether Chile or Singapore has failed to comply with their telecommunications commitments or obligations under the respective free trade agreements with those countries;

(4) Whether other countries have failed to comply with their commitments under additional telecommunications agreements with the United States, i.e., Mutual Recognition Agreements (MRAs) for Conformity Assessment of Telecommunications Equipment: Mutual Recognition Agreements regarding telecommunications equipment trade with the European Union (1997), APEC countries (1998), and CITEL countries (1999).

(5) Whether there remains outstanding issues from previous Section 1377 reviews on those countries or issues previously cited. Last year's review can be found at http://www.ustr.gov.

See 63 FR 1140 (January 8, 1998) for further information concerning the agreements listed below and USTR Press Release 2003-23 available at http://www.ustr.gov, for the results of the 2003 section 1377 review concerning these agreements.

Public Comment and Reply Comment: Requirements for Submissions

USTR requests comments on: the operation and effectiveness of—including implementation of and compliance with—the WTO Basic Telecommunications Agreement; other WTO agreements affecting market opportunities for telecommunications products and services of the United States; the NAFTA; the Chile and Singapore Free Trade Agreements; and other telecommunications trade agreements with APEC members, CITEL members, the EU, Japan, Korea, Mexico and Taiwan. All comments must be in English, identify on the first page of the comments the telecommunications trade agreement(s) discussed therein, be addressed to Gloria Blue, Executive Secretary, TPSC, ATTN: Section 1377 Comments, Office of the U.S. Trade Representative, and be submitted in 15 copies by noon on January 5, 2004. Reply Comments will also require 15 copies by noon on January 23, 2004.

In order to ensure the most timely and expeditious receipt and consideration of comments and reply comments, USTR has arranged to accept submissions in electronic format (e-mail). Comments should be submitted electronically to FR0405@USTR.GOV. An automatic reply confirming receipt of e-mail submission will be sent. E-mail submissions in Microsoft Word or Corel WordPerfect are preferred. If a word processing application other than those two is used, please include in your submission the specific application used. For any document containing business confidential information submitted electronically, the file name of the business confidential version should begin with the characters “BC”, and the file name of the public version should begin with the character “P”. The “BC” and “P” should be followed by the name of the person or entity submitting the comments or reply comments. Interested persons who make submissions electronically should not provide separate cover letters; rather, information that might appear in a cover letter should be included in the submission itself. Similarly, to the extent possible, any attachments to the submission should be included in the same file as the submission itself, and not as separate files.

We strongly urge people to avail themselves of the electronic filing, if at all possible. If an e-mail submission is impossible, 15 copies may be submitted in accordance with the procedures listed below, and if not filed electronically must be delivered via private commercial courier, and arrangements must be made with Ms. Blue prior to delivery for their receipt. Ms. Blue should be contacted at (202) 395-3475.

All non-confidential comments and reply comments will be placed on the USTR Web site, http://www.USTR.gov and in the USTR Reading Room for inspection shortly after the filing deadline, except business confidential information exempt from public inspection in accordance with 15 CFR 2003.6. Confidential information submitted in accordance with 15 CFR 2003.6, must be clearly marked “BUSINESS CONFIDENTIAL” in a contrasting color ink at the top of each page on each of 15 copies, and must be accompanied by 15 copies of a nonconfidential summary of the confidential information. The nonconfidential summary will be placed in the USTR Public Reading Room. Since comments and reply comments will be posted on USTR's Web site, those persons not availing themselves of electronic filing must submit their 15 copies with a diskette. USTR will post the non-confidential version of the filing, therefore the non-confidential version must be clearly marked on the diskette.

An appointment to review the comments may be made by calling the USTR Reading Room at (202) 395-6186. The USTR Reading Room is open to the public from 9:30 a.m. to 12 noon, and from 1 p.m. to 4 p.m., Monday through Friday, and is located in Room 3 of 1724 F Street., NW.

Dated: December 3, 2003.
Carmen Suro-Bredie,
Chairman, Trade Policy Staff Committee.

[FR Doc. 03-30375 Filed 12-5-03; 8:45 am]

BILLING CODE 3190-W3-P